DEPARTMENT OF AGRICULTURE

Forest Service

Black Ant Fire Salvage EIS—Lewis and Clark National Forest

AGENCY: Forest Service, USDA.

ACTION: Notice of intent to prepare an environmental impact statement.

SUMMARY: The Forest Service will prepare an environmental impact statement on a proposal to salvage fire killed trees on approximately 1,000 acres on the Lewis and Clark National Forest, in Meagher County, Montana. The Lost Fork Fire burned an estimated 2,300 acres in September of 2001. A preliminary assessment indicated about ⅓ of the burned area contains trees of commercial value. In order to further the purposes of the National Environmental Policy Act and to provide full disclosure of effects, the analysis will be documented in an Environmental Impact Statement (EIS).

DATES: Comments concerning the scope of the analysis, issues, the alternatives, and evaluation of alternatives are requested. A draft document will be provided upon request.

ADDRESSES: Send written comments to Rick Prausa, Forest Supervisor, Lewis and Clark National Forest, 1101 15th Street North, Box 869, Great Falls, MT 59403. Electronic mail may be sent to rl lewisclark comments@fs.fed.us (Note: there are spaces before and after lewisclark.)

FOR FURTHER INFORMATION CONTACT: Scott Hill, EIS Team Leader, Judith Ranger District, POB 484, Stanford MT, 59479. Phone: (406) 566-2292, Electronic Mail: shill02@fs.fed.us.

SUPPLEMENTARY INFORMATION: The Forest Service proposes to salvage fire-killed trees of commercial value on approximately 1,000 acres in the North Fork of the Musselshell and the North Fork of the Smith River drainages on the Lewis and Clark National Forest. The entire project area covers about 2,300 acres in the central portion of the Little Belt Mountains. The purposes of the proposed action is to make use of trees of commercial value while the opportunity exists. No salvage or road construction within identified roadless areas is proposed.

Decisions To Be Made: The Forest Supervisor will decide whether and where salvage activities would take place in the project area. He will decide the number of acres, if any, on which salvage would take place and the treatment methods to be used. He will decide when any management activities would take place, what mitigation measures would be implemented to address concerns, and whether the action requires amendment(s) to the Lewis and Clark Forest Plan

Responsible Official: Rick Prausa, Forest Supervisor, is the Responsible Official for making the decision to implement any of the alternatives evaluated. He will document his decision and rationale in a Record of Decision.

Preliminary Issues: Issues associated with salvage harvest that have been identified during scoping and development of proposed action include impacts of proposed activities on wildlife and fish species and their habitat and soil resources.

Public Involvement, Rationale, and Public Meetings: Scoping for this project will begin in October 2001. A letter will be sent to individuals requesting their comment on the proposed action. A 45-day review period for comments on the Draft EIS will be provided. Comments received will be considered and included in documentation of the Final EIS. The public is encouraged to take part in the process and to visit with Forest Service officials at any time during the analysis and prior to the decision. The Forest Service has sought and will continue to seek information, comments and assistance from Federal, State and local agencies and other individuals or organizations who may be interested in, or affected by, the proposed action.

Electronic Access and Filing Addresses: Comments may be sent by electronic mail (e-mail) to rl lewisclark comments@fs.fed.us. Please reference the Black Ant Salvage EIS on the subject line. Also, include your name and mailing address with your comments so documents pertaining to this project may be mailed to you.

Estimated Dates for Filing: The Draft EIS is expected to be filed with the Environmental Protection Agency (EPA) and to be available for public review by February, 2002. At that time EPA will publish a Notice of Availability of the draft EIS in the Federal Register. The comment period on the draft EIS will be 45 days from the date the EPA publishes the Notice of Availability in the Federal Register. It is very important that those interested in the management of this area participate at that time.

The final EIS is scheduled to be completed by May, 2002. In the final EIS, the Forest Service will respond to comments received during the comment period that pertain to the environmental consequences of the action, as well as those pertaining to applicable laws, regulations, and policies. These will be considered in making a decision regarding the proposal.

The Reviewers Obligation To Comment: The Forest Service believes it is important to give reviewers notice at this early stage of several court rulings related to public participation in the environmental review process. First, reviewers of draft environmental impact statement must structure their participation in the environmental review of the proposal so that it is meaningful and alerts an agency to the reviewer's position and contentions. Vermont Yankee Nuclear Power Corp. v. NRDC, 435 U.S. 519, 553 (1978). Also, environmetnal objections that could be raised at the draft environmental impact statement stage but that are not raised until after completion of the final environmental impact statement may be waived or dismissed by the courts. Wisconsin Heritages, Inc. v. Harris, 490 F.Supp. 1334, 1338 (E.D. Wis. 1980). As shown by these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: November 27, 2001.
Rick Prausa,
Lewis and Clark Forest Supervisor.

[FR Doc. 01-29841 Filed 11-30-01; 8:45 am]

BILLING CODE 3410-11-M